DEPARTMENT OF STATE

[Public Notice 6924]

Bureau of Political-Military Affairs; Statutory Debarment Under the Arms Export Control Act and the International Traffic in Arms Regulations

ACTION: Notice.

SUMMARY: Notice is hereby given that the Department of State has imposed statutory debarment pursuant to § 127.7(c) of the International Traffic in Arms Regulations (“ITAR”) (22 CFR parts 120 to 130) on persons convicted of violating, attempting to violate or conspiring to violate Section 38 of the Arms Export Control Act, as amended, (“AECA”) (22 U.S.C. 2778).

DATES: Effective Date: Date of conviction as specified for each person.

FOR FURTHER INFORMATION CONTACT: Lisa Studtmann, Director, Office of Defense Trade Controls Compliance, Bureau of Political-Military Affairs, Department of State, (202) 663-2980.

SUPPLEMENTARY INFORMATION: Section 38(g)(4) of the AECA, 22 U.S.C. 2778(g)(4), prohibits the Department of State from issuing licenses or other approvals for the export of defense articles or defense services where the applicant, or any party to the export, has been convicted of violating certain statutes, including the AECA. In implementing this provision, Section 127.7 of the ITAR provides for “statutory debarment” of any person who has been convicted of violating or conspiring to violate the AECA. Persons subject to statutory debarment are prohibited from participating directly or indirectly in the export of defense articles, including technical data, or in the furnishing of defense services for which a license or other approval is required.

Statutory debarment is based solely upon conviction in a criminal proceeding, conducted by a United States Court, and as such the administrative debarment procedures outlined in Part 128 of the ITAR are not applicable.

The period for debarment will be determined by the Assistant Secretary for Political-Military Affairs based on the underlying nature of the violations, but will generally be for three years from the date of conviction. At the end of the debarment period, export privileges may be reinstated only at the request of the debarred person followed by the necessary interagency consultations, after a thorough review of the circumstances surrounding the conviction, and a finding that appropriate steps have been taken to mitigate any law enforcement concerns, as required by Section 38(g)(4) of the AECA. Unless export privileges are reinstated, however, the person remains debarred.

Department of State policy permits debarred persons to apply to the Director, Office of Defense Trade Controls Compliance, for reinstatement beginning one year after the date of the debarment. Any decision to grant reinstatement can be made only after the statutory requirements of Section 38(g)(4) of the AECA have been satisfied.

Exceptions, also known as transaction exceptions, may be made to this debarment determination on a case-by-case basis at the discretion of the Assistant Secretary of State for Political-Military Affairs, after consulting with the appropriate U.S. agencies. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to Section 38(g)(4) of the AECA and Section 127.7(c) of the ITAR, the following persons are statutorily debarred as of the date of their AECA conviction:

(1) Jesus Lorenzo Torres-Lopez, November 19, 2009, U.S. District Court, District of Arizona, Case # CR 09-00616-002-TUC-JMR (HCE).

(2) Peter K. Spitz, November 25, 2008, U.S. District Court, Southern District of Florida, Case # 0:08-CR-60128-COHN.

(3) Traian Bujduveanu, June 12, 2009, U.S. District Court, Southern District of Florida, Case # 1:08-20612-CR-SEITZ-002.

(4) Ugur Yildiz, December 23, 2009, U.S. District Court, Northern District of Illinois, Case # 08 CR 480-1.

(5) Bing Xu, July 2, 2009, U.S. District Court, District of New Jersey, Case # CR-08-240-01 (RMB).

(6) Artur (AKA Alex) Solomonyan, March 6, 2009, U.S. District Court, Southern District of New York, Case # S1:05 cr 00327-01 (RJH).

(7) Christiaan Dewet (AKA David) Spies, July 16, 2009, U.S. District Court, Southern District of New York, Case # S1:05 cr 00327-02 (RJH).

(8) Ioseb (AKA Soso) Kharabadze, March 11, 2009, U.S. District Court, Southern District of New York, Case # S1:05 cr 00327-03 (RJH).

(9) John Reece Roth, July 28, 2009, U.S. District Court, Eastern District of Tennessee, Case # 3:08-CR-00069-1.

(10) Jose Luis Hernandez-Ochoa, December 19, 2008, U.S. District Court, Southern District of Texas, Case # 7:07CR00586-001.

(11) Luis Miguel Hernandez-Hernandez, December 19, 2008, U.S. District Court, Southern District of Texas, Case # 7:07CR00586-002.

(12) Fernando Venegas-Arias, December 31, 2008, U.S. District Court, Southern District of Texas, Case # 7:07CR00586-003.

(13) Pedro Javier Lopez-Lopez, December 31, 2008, U.S. District Court, Southern District of Texas, Case # 7:07CR00586-004.

(14) Amado Iracheta-Delgado, April 9, 2009, U.S. District Court, Southern District of Texas, Case # 7:07CR00595-001.

(15) Laiza Moreno, April 9, 2009, U.S. District Court, Southern District of Texas, Case # 7:07CR00595-002.

(16) Julio Cesar Tamez-Hernandez, February 16, 2009, U.S. District Court, Southern District of Texas, Case # 7:07CR01349-001.

(17) Obed Damian Guajardo-Silva, February 16, 2009, U.S. District Court, Southern District of Texas, Case # 7:07CR01349-002.

(18) Juan Carlos Bocanegra, August 12, 2009, U.S. District Court, Southern District of Texas, Case # 7:08CR00005-001.

(19) Ramon Salazar-Rostro, January 19, 2009, U.S. District Court, Southern District of Texas, Case # 7:08CR00956-001.

(20) Justo Manuel Fernandez-Hernandez, February 25, 2009, U.S. District Court, Southern District of Texas, Case # 1:08CR01058-001.

(21) Alejandro Reyes-Baez, June 1, 2009, U.S. District Court, Southern District of Texas, Case # 7:08CR01617-001.

(22) Nestor Rangel, June 12, 2009, U.S. District Court, Southern District of Texas, Case # 7:08CR01617-002.

(23) Juan Vasquez, August 12, 2009, U.S. District Court, Southern District of Texas, Case #7:08CR01610-001.

(24) Reynol Garcia, June 12, 2009, U.S. District Court, Southern District of Texas, Case #7:08CR01754-001.

(25) Antonio Rodriguez-Capetillo, January 16, 2010, U.S. District Court, Southern District of Texas, Case # 7:08CR01415-001.

(26) Mario Hector Quilantan-Garcia, December 9, 2009, U.S. District Court, Southern District of Texas, Case # 7:09CR00874-001.

(27) Pedro Cayetano Gonzalez-Flores, December 31, 2009, U.S. District Court, Southern District of Texas, Case # 7:09CR01019-001.

(28) Roberto Carlos Garcia-Salazar, January 31, 2009, U.S. District Court, Southern District of Texas, Case # 7:08CR01045-001.

(29) Manuel Rangel Rivera, January 9, 2009, U.S. District Court, Western District of Texas, Case # DR-07-CR-668(1)-AML.

(30) Ding Zhengxing (AKA Zhengxing Ding and Zheng Xing Ding), July 21, 2009, U.S. District Court, Western District of Texas, Case # EP-07-CR-3289-FM(1).

(31) Su Yang (AKA Yang Su), May 22, 2009, U.S. District Court, Western District of Texas, Case # EP-07-CR-3289-FM(3).

(32) Taipan Enterprises, Ltd., January 7, 2010, U.S. District Court, Eastern District of Virginia, Case # 1:10CR00002-001.

As noted above, at the end of the three-year period following the date of conviction, the above named persons/entities remain debarred unless export privileges are reinstated.

Debarred persons are generally ineligible to participate in activity regulated under the ITAR (see e.g., sections 120.1(c) and (d), and 127.11(a)). Also, under Section 127.1(c) of the ITAR, any person who has knowledge that another person is subject to debarment or is otherwise ineligible may not, without disclosure to and written approval from the Directorate of Defense Trade Controls, participate, directly or indirectly, in any export in which such ineligible person may benefit therefrom or have a direct or indirect interest therein.

This notice is provided for purposes of making the public aware that the persons listed above are prohibited from participating directly or indirectly in activities regulated by the ITAR, including any brokering activities and in any export from or temporary import into the United States of defense articles, related technical data, or defense services in all situations covered by the ITAR. Specific case information may be obtained from the Office of the Clerk for the U.S. District Courts mentioned above and by citing the court case number where provided.

Dated: March 10, 2010.
Andrew J. Shapiro,
Assistant Secretary, Bureau of Political-Military Affairs, Department of State.

[FR Doc. 2010-6067 Filed 3-18-10; 8:45 am]

BILLING CODE 4710-25-P